DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. These applications have been separated from the new application for exemption to facilitate processing.

DATES: Comments must be received on or before October 8, 2004.

ADDRESSES: Address Comments to: Record Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the application are available for inspection in the Records Center, Nassif Building, 400 7th Street, SW., Washington, DC or at http://dms.dot.gov.

This notice of receipt of applications for modification of exemption is published in accordance with Part 107 of the Federal hazardous materials transportation law (49 U.S.C. 5117(b); 49 CFR 1.53(b)).

Issued in Washington, DC, on September 16, 2004.
R. Ryan Posten,
Exemptions Program Officer, Office of Hazardous Materials Exemptions & Approvals.

Modification Exemptions
Application No. | Docket No. | Applicant | Regulation(s) affected | Modification exemption | Nature of exemption thereof
9275-M |  | Alcoa Inc. Pittsburgh, PA | 49 CFR Parts 100-180 | 9275 | To modify the exemption to authorize revising the proper shipping description to allow transportation of medical screening solutions containing ethyl alcohol liquids.
10791-M |  | Con-Quest Products, Inc. Elk Grove Village, IL | 49 CFR 173.12(b)(2) | 10791 | To modify the exemption to authorize a design change of the UN 4G fiberboard box filled with a polyethylene film bag liner for the transportation of various Hazard Class/Division waste hazardous materials.
11536-M |  | The Boeing Company Los Angeles, CA | 49 CFR 173.302; 173.62; 173.159; 173.304 | 11536 | To modify the exemption to authorize an increase of spacecraft pressure vessels from two to four and the transportation of an additional Division 2.1 material.
11670-M |  | Oilphase Schlumberger Dyce, Aberdeen Scotland | 49 CFR 178.36 | 11670 | To modify the exemption to authorize the use of a newly designed non-DOT specification oil well sampling cylinder for the transportation of Division 2.1 materials.
12744-M | RSPA-01-10126 | Alcoa Inc. Pittsburgh, PA | 49 CFR 171-180 | 12744 | To modify the exemption to authorize a Division 4.3, PGI material be allowed to be transported as a “material of trade” item.
13321-M | RSPA-03-16598 | Quest Diagnostics, Inc. Collegeville, PA | 49 CFR 173.28(b)(3) | 13321 | To modify the exemption to authorize passenger-carrying aircraft as an additional mode of transportation for certain Division 6.2 materials.
13442-M |  | PRC-DeSoto International Mojave, CA | 49 CFR 173.173(b)(2) | 13442 | To reissue the exemption originally issued on an emergency basis for a Class 3 material in inner plastic packagings not exceeding 5 L capacity in addition to the glass and metal packagings.
13796-M | RSPA-04-18891 | Rhodia Inc. Cranbury, NJ | 49 CFR 173.188 | 13796 | To reissue the exemption originally issued on an emergency basis for the transportation of a Division 4.2 material while under water in alternative packaging.

[FR Doc. 04-21380 Filed 9-22-04; 8:45 am]

BILLING CODE 4909-60-M